NATIONAL AERONAUTICS AND SPACE ADMINISTRATION

[NOTICE: 24-002]

Name of Information Collection: NASA Special Events

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by March 11, 2024.

ADDRESSES: Written comments and recommendations for this information collection should be sent within 60 days of publication of this notice to www.reginfo.gov/public/do/PRAMain.

Find this particular information collection by selecting “Currently under 60-day Review—Open for Public Comments” or by using the search function.

FOR FURTHER INFORMATION CONTACT: Requests for additional information or copies of the information collection instrument(s) and instructions should be directed to NASA PRA Clearance Officer, Bill Edwards-Bodmer, NASA Headquarters, 300 E Street SW, JF0000, Washington, DC 20546, phone 757-864-7998, or email hq-ocio-pra-program@mail.nasa.gov.

SUPPLEMENTARY INFORMATION:

I. Abstract

The National Aeronautics and Space Administration (NASA) is committed to effectively performing the Agency's communication function in accordance with the Space Act section 203(a)(3) to “provide for the widest practicable and appropriate dissemination of information concerning its activities and the results there of,” and to enhance public understanding of, and participation in, the nation's space program in accordance with the NASA Strategic Plan. The Space Act of 1958, directs the Agency to expand human knowledge of Earth and space phenomena. Organizing outreach events is one way NASA intends to leverage excitement about the nation's space program and expand human knowledge of Earth and space phenomena. In order to organize effective outreach events and registration opportunities for members of the public, it is necessary to collect information from perspective guests and those that will check-in the guests at events. The NASA Special Events System is a tool to allow invitees to register for and check-in to NASA event opportunities (launch viewing, agency engagements, etc.) in a single location.

II. Methods of Collection

The NASA Special Events tool is a web-based application on a Salesforce platform that enables the NASA OCOMM team to manage guest information, communication, and reporting agency-wide. The intent of using electronic collection techniques is to increase the accuracy of information gathered and to streamline the process for guests and workforce alike.

III. Data

Title: NASA Special Events.

OMB Number: TBA.

Type of review: New Information Collection.

Affected Public: 10,000 NASA Invited Guests.

Estimated Annual Number of Activities: 15.

Estimated Number of Respondents per Activity: 650.

Annual Responses: 10,000.

Estimated Time per Response: 10 Minutes.

Estimated Total Annual Burden Hours: 1,667 Hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2024-00165 Filed 1-8-24; 8:45 am]

BILLING CODE 7510-13-P